DEPARTMENT OF TRANSPORTATION

Federal Aviation Administration

14 CFR Part 73

[Docket No. FAA-2008-0110; Airspace Docket No. 07-ASW-8]

RIN 2120-AA66

Proposed Modification of Restricted Areas R-4401A, R-4401B, and R-4401C; Camp Shelby, MS

AGENCY: Federal Aviation Administration (FAA), DOT.

ACTION: Notice of proposed rulemaking (NPRM).

SUMMARY: This action proposes a minor expansion of Restricted Areas R-4401A, B, and C, Camp Shelby, MS, by moving the southeastern corner of the areas approximately two nautical miles to the east of the current position. This change would ensure that aircraft conducting high altitude munitions delivery training at Camp Shelby remain within the confines of restricted airspace.

DATES: Comments must be received on or before April 7, 2008.

ADDRESSES: Send comments on this proposal to the U.S. Department of Transportation, Docket Management Facility, Docket Operations, M-30, 1200 New Jersey Avenue, SE., West Building Ground Floor, Room W12-140, Washington, DC 20590-0001; telephone: (202) 366-9826. You must identify FAA Docket No. FAA-2008-0110 and Airspace Docket No. 07-ASW-8, at the beginning of your comments. You may also submit comments through the Internet at http://www.regulations.gov.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2008-0110 and Airspace Docket No. 07-ASW-8) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2008-0110 and Airspace Docket No. 07-ASW-8.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Comments on environmental and land use aspects of this proposal may be sent to: Air National Guard Readiness Center, Chief, Environmental Planning Branch, NGB/A7CVP, 3500 Fetchet Avenue, Andrews Air Force Base, MD 20762-5157.

Availability of NPRMs

An electronic copy of this document may be downloaded through the Internet at http://www.regulations.gov. Recently published rulemaking documents can also be accessed through the FAA's webpage at http://www.faa.gov or the Federal Register's webpage at http://www.gpoaccess.gov/fr/index.html.

You may review the public docket containing the proposal, any comments received and any final disposition in person at the Docket Management Facility (see ADDRESSES section for address and phone number) between 9 a.m. and 5 p.m., Monday through Friday, except Federal holidays. An informal docket may also be examined during normal business hours at the office of the Central Service Center, Federal Aviation Administration, 2601 Meacham Blvd.; Fort Worth, TX 76193-0500.

Persons interested in being placed on a mailing list for future NPRMs should contact the FAA's Office of Rulemaking, (202) 267-9677, for a copy of Advisory Circular No. 11-2A, Notice of Proposed Rulemaking Distribution System, which describes the application procedure.

Background

Restricted Areas R-4401A, B, and C, at Camp Shelby, MS, share a common boundary and overlie one another to provide restricted airspace, in layers, from ground level up to 29,000 feet MSL. The airspace is used to contain a variety of hazardous activities including air-to-ground live fire operations and ground-based live fire operations. Changes in fighter aircraft tactics have placed emphasis on training for high altitude munitions deliveries. It has been found that the current restricted areas do not provide enough airspace for high altitude delivery maneuvers. As a result, aircraft often spill-out into airspace controlled by Houston Air Route Traffic Control Center during the maneuvers. A minor expansion of the restricted areas on the east side would alleviate this problem.

The Proposal

At the request of the Air National Guard (ANG), the FAA is proposing an amendment to Title 14 Code of Federal Regulations (14 CFR) part 73 to expand the size of Restricted Areas R-4401A, B, and C, at Camp Shelby, MS. The proposed minor modification would expand the restricted areas on the east side by moving the southeast corner of the areas approximately two nautical miles to the east of the current position. This change would provide additional airspace to ensure that aircraft maneuvering for high altitude munitions delivery training would remain within the confines of restricted airspace. The expanded restricted area boundary would extend into the existing De Soto 1 Military Operations Area (MOA), which lies adjacent to R-4401A and B. The De Soto 1 MOA boundary would also be modified to coincide with the revised restricted area boundary.

Section 73.34 of Title 14 CFR part 73 was republished in FAA Order 7400.8N, effective February 16, 2007.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify R-4401A, B, and C, Camp Shelby, MS, to provide sufficient restricted airspace to contain hazardous activities.

Related Airspace Proposal

In addition to the proposed restricted area modification described above, the ANG is also requesting the FAA to modify the Military Operations Areas (MOA) associated with the Camp Shelby range. MOAs are not regulatory airspace and, therefore, are not published in 14 CFR part 73. The ANG is requesting additional MOA airspace above the current De Soto 1 and De Soto 2 MOAs, to extend the MOA airspace supporting the range, up to 17,999 feet MSL. The FAA will seek comment on this separate airspace proposal through nonrulemaking procedures.

Environmental Review

This proposal will be subject to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.44 [Amended]

2. § 73.44 is amended as follows:

* * * * *

R-4401A Camp Shelby, MS [Amended]

By removing the current boundaries and substituting the following:

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

* * * * *

R-4401B Camp Shelby, MS [Amended]

By removing the current boundaries and substituting the following:

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

* * * * *

R-4401C Camp Shelby, MS [Amended]

By removing the current boundaries and substituting the following:

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

* * * * *

Issued in Washington, DC, on February 12, 2008.
Ellen Crum,
Acting Manager, Airspace and Rules Group.

[FR Doc. E8-3138 Filed 2-19-08; 8:45 am]

BILLING CODE 4910-13-P